DEPARTMENT OF ENERGY

Federal Energy Regulatory Commission

Combined Notice of Filings #1

Take notice that the Commission received the following electric corporate filings:

Docket Numbers: EC22-11-000.

Applicants: Coram California Development, L.P., Tusk Wind Holdings V, LLC.

Description: Joint Application for Authorization Under Section 203 of the Federal Power Act of Coram California Development, L.P., et al.

Filed Date: 10/27/21.

Accession Number: 20211027-5179.

Comment Date: 5 p.m. ET 11/17/21.

Take notice that the Commission received the following exempt wholesale generator filings:

Docket Numbers: EG22-15-000.

Applicants: ENGIE 2020 ProjectCo-NH1 LLC.

Description: Notice of Self-Certification of Exempt Wholesale Generator Status of ENGIE 2020 ProjectCo-NH1 LLC.

Filed Date: 10/27/21.

Accession Number: 20211027-5166.

Comment Date: 5 p.m. ET 11/17/21.

Take notice that the Commission received the following electric rate filings:

Docket Numbers: ER22-150-001.

Applicants: Public Service Company of New Mexico.

Description: Tariff Amendment: Supplement to Pseudo Tie Agreement with Red Cloud Wind, Rate Schedule No. 176 to be effective 11/1/2021.

Filed Date: 10/27/21.

Accession Number: 20211027-5162.

Comment Date: 5 p.m. ET 11/9/21.

Docket Numbers: ER22-222-000.

Applicants: MATL LLP.

Description: § 205(d) Rate Filing: Funding Agreement Filing to be effective 1/1/2022.

Filed Date: 10/27/21.

Accession Number: 20211027-5140.

Comment Date: 5 p.m. ET 11/17/21.

Docket Numbers: ER22-223-000.

Applicants: Otter Tail Power Company.

Description: § 205(d) Rate Filing: Revisions to Operating Services Agreement with CPEC, Service Agreement No. 54 to be effective 1/1/2022.

Filed Date: 10/27/21.

Accession Number: 20211027-5144.

Comment Date: 5 p.m. ET 11/17/21.

Docket Numbers: ER22-224-000.

Applicants: Gulf Power Company.

Description: § 205(d) Rate Filing: Request for Waiver and Amendments to Open Access Transmission Tariff to be effective 1/1/2022.

Filed Date: 10/27/21.

Accession Number: 20211027-5147.

Comment Date: 5 p.m. ET 11/17/21.

Docket Numbers: ER22-225-000.

Applicants: Avista Corporation.

Description: § 205(d) Rate Filing: Avista Corp OATT Revisions for EIM Entry to be effective 2/1/2022.

Filed Date: 10/27/21.

Accession Number: 20211027-5150.

Comment Date: 5 p.m. ET 11/17/21.

Docket Numbers: ER22-226-000.

Applicants: Avista Corporation.

Description: § 205(d) Rate Filing: Avista Corp OATT Revisions for EIM Entry to be effective 2/1/2022.

Filed Date: 10/27/21.

Accession Number: 20211027-5165.

Comment Date: 5 p.m. ET 11/17/21.

Docket Numbers: ER22-227-000.

Applicants: NorthWestern Corporation.

Description: § 205(d) Rate Filing: RS 328—Certificate of Concurrence to NorthernGrid Funding Agreement to be effective 1/1/2022.

Filed Date: 10/28/21.

Accession Number: 20211028-5000.

Comment Date: 5 p.m. ET 11/18/21.

Docket Numbers: ER22-228-000.

Applicants: Midcontinent Independent System Operator, Inc.

Description: § 205(d) Rate Filing: 2021-10-28_SA 2110 GRE-GRE-OTP 1st Rev GIA (G876 G877) to be effective 1/1/2022.

Filed Date: 10/28/21.

Accession Number: 20211028-5031.

Comment Date: 5 p.m. ET 11/18/21.

Docket Numbers: ER22-229-000.

Applicants: PJM Interconnection, L.L.C.

Description: § 205(d) Rate Filing: Original Interim ISA, Service Agreement No. 6215; Queue No. AD1-152 to be effective 9/29/2021.

Filed Date: 10/28/21.

Accession Number: 20211028-5038.

Comment Date: 5 p.m. ET 11/18/21.

Docket Numbers: ER22-230-000.

Applicants: Midcontinent Independent System Operator, Inc., Northern Indiana Public Service Company LLC.

Description: § 205(d) Rate Filing: Midcontinent Independent System Operator, Inc. submits tariff filing per 35.13(a)(2)(iii: 2021-10-28_NIPSCO Attachment GG Filing to be effective 12/28/2021.

Filed Date: 10/28/21.

Accession Number: 20211028-5042.

Comment Date: 5 p.m. ET 11/18/21.

Docket Numbers: ER22-231-000.

Applicants: Midcontinent Independent System Operator, Inc., American Transmission Company LLC.

Description: § 205(d) Rate Filing: Midcontinent Independent System Operator, Inc. submits tariff filing per 35.13(a)(2)(iii: 2021-10-28_SA 3730 ATC-New Glarus D-T to be effective 12/1/2021.

Filed Date: 10/28/21.

Accession Number: 20211028-5045.

Comment Date: 5 p.m. ET 11/18/21.

Docket Numbers: ER22-232-000.

Applicants: Avista Corporation.

Description: § 205(d) Rate Filing: Avista Corp FERC RS T1158-1 Certificate of Concurrence Northern Grid Funding Agm to be effective 1/1/2022.

Filed Date: 10/28/21.

Accession Number: 20211028-5064.

Comment Date: 5 p.m. ET 11/18/21.

Docket Numbers: ER22-233-000.

Applicants: Portland General Electric Company.

Description: § 205(d) Rate Filing: 2022 Transmission Rate Case to be effective 1/1/2022.

Filed Date: 10/28/21.

Accession Number: 20211028-5068.

Comment Date: 5 p.m. ET 11/18/21.

Docket Numbers: ER22-234-000.

Applicants: Tri-State Generation and Transmission Association, Inc.

Description: § 205(d) Rate Filing: Amendment to Rate Schedule FERC No. 50 to be effective 2/26/2020.

Filed Date: 10/28/21.

Accession Number: 20211028-5071.

Comment Date: 5 p.m. ET 11/18/21.

Docket Numbers: ER22-234-001.

Applicants: Tri-State Generation and Transmission Association, Inc.

Description: Tariff Amendment: Amendment to Rate Schedule FERC No. 50 to be effective 10/29/2021.

Filed Date: 10/28/21.

Accession Number: 20211028-5073.

Comment Date: 5 p.m. ET 11/18/21.

Docket Numbers: ER22-235-000.

Applicants: MATL LLP.

Description: § 205(d) Rate Filing: Attachment K Amendments and Cancellation of Rate Schedule No. 5 to be effective 12/31/2021.

Filed Date: 10/28/21.

Accession Number: 20211028-5077.

Comment Date: 5 p.m. ET 11/18/21.

Docket Numbers: ER22-236-000.

Applicants: Nevada Power Company.

Description: § 205(d) Rate Filing: NPC Cert of Concurrence NorthernGrid (Rate Schedule No. 168) to be effective 1/1/2022.

Filed Date: 10/28/21.

Accession Number: 20211028-5082.

Comment Date: 5 p.m. ET 11/18/21..

Docket Numbers: ER22-237-000.

Applicants: PacifiCorp.

Description: Tariff Amendment: Termination UAMPS Construction Agreement—Lehi (Upgrades to Eagle Mtn) to be effective 1/17/2022.

Filed Date: 10/28/21.

Accession Number: 20211028-5089.

Comment Date: 5 p.m. ET 11/18/21..

Docket Numbers: ER22-238-000.

Applicants: PacifiCorp.

Description: Tariff Amendment: Termination UAMPS Construction Agmt—Lehi Temp Tap Additional to be effective 1/17/2022.

Filed Date: 10/28/21.

Accession Number: 20211028-5102.

Comment Date: 5 p.m. ET 11/18/21..

Docket Numbers: ER22-239-000.

Applicants: EcoGrove Wind LLC.

Description: § 205(d) Rate Filing: Cotenancy and Shared Facilities Agreement to be effective 12/28/2021.

Filed Date: 10/28/21.

Accession Number: 20211028-5124.

Comment Date: 5 p.m. ET 11/18/21..

Docket Numbers: ER22-240-000.

Applicants: Duke Energy Carolinas, LLC.

Description: § 205(d) Rate Filing: DEC-WCU-Carolina Power Partners Rate Schedule No. 548 Dynamic Trans. Agreement to be effective 1/1/2022.

Filed Date: 10/28/21.

Accession Number: 20211028-5127.

Comment Date: 5 p.m. ET 11/18/21..

Docket Numbers: ER22-241-000.

Applicants: Aragonne Wind LLC.

Description: Baseline eTariff Filing: Reactive Power Compensation Filing to be effective 12/15/2021.

Filed Date: 10/28/21.

Accession Number: 20211028-5128.

Comment Date: 5 p.m. ET 11/18/21..

Docket Numbers: ER22-242-000.

Applicants: PJM Interconnection, L.L.C.

Description: § 205(d) Rate Filing: Original ISA, Service Agreement No. 6208; Queue No. AG1-130 to be effective 9/30/2021.

Filed Date: 10/28/21.

Accession Number: 20211028-5131.

Comment Date: 5 p.m. ET 11/18/21..

Docket Numbers: ER22-243-000.

Applicants: Duke Energy Carolinas, LLC.

Description: § 205(d) Rate Filing: DEC-New River-Carolina Power Partners Rate Schedule No. 547 Dynamic Trans. Agmt to be effective 1/1/2022.

Filed Date: 10/28/21.

Accession Number: 20211028-5150.

Comment Date: 5 p.m. ET 11/18/21..

Docket Numbers: ER22-245-000.

Applicants: PacifiCorp.

Description: § 205(d) Rate Filing: Engineering and Procurement Agreement—Copco No. 1 to be effective 12/27/2021.

Filed Date: 10/28/21.

Accession Number: 20211028-5182.

Comment Date: 5 p.m. ET 11/18/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 28, 2021.
Kimberly D. Bose,
Secretary.

[FR Doc. 2021-23961 Filed 11-2-21; 8:45 am]

BILLING CODE 6717-01-P